DEPARTMENT OF STATE

[Public Notice 8516]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: Effective Date: As shown on each of the 23 letters.

FOR FURTHER INFORMATION CONTACT: Ms. Lisa V. Aguirre, Directorate of Defense Trade Controls, Department of State, telephone (202) 663-2830; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

July 29, 2013

Honorable John A. Boehner, Speaker of the House of Representatives.

Dear Mr. Speaker: Pursuant to Section 36(c) and (d) of the Arms Export Control Act, I am transmitting, herewith, certification of a proposed license for the manufacture of significant military equipment abroad and the export of defense articles, including technical data, and defense services in the amount of $1,000,000 or more.

The transaction contained in the attached certification involves the export of defense articles, including technical data, and defense services to Israel to support the development and manufacture of various component parts of pistols and rifles.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-108.

July 25, 2013

Honorable John A. Boehner, Speaker of the House of Representatives.

Dear Mr. Speaker: Pursuant to Section 36(c) of the Arms Export Control Act, I am transmitting, herewith, certification of a proposed license for the export of firearm parts and components abroad controlled under the United States Munitions List in amount of $1,000,000 or more.

The transaction contained in the attached certification involves the export of rifles to Canada for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-109.

July 26, 2013

Honorable John A. Boehner, Speaker of the House of Representatives.

Dear Mr. Speaker: Pursuant to Sections 36(c) an 36 (d) of the Arms Export Control Act, I am transmitting, herewith, certification of a proposed license for the manufacture of Significant Military Equipment abroad and export of defense articles, including technical data, and defense services in the amount of $50,000,000 or more.

The transaction contained in the attached certification involves the manufacture and export of defense articles, including technical data, and defense services to the Czech Republic, Iraq, Poland, and Taiwan. The agreement includes the manufacture, assembly and testing of components for the F124 and TFE1042 engines and associated ground support equipment for end-use by the Czech Republic, Iraq, Poland, and Taiwan.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-015.

July 24, 2013

Honorable John A. Boehner, Speaker of the House of Representatives.

Dear Mr. Speaker: Pursuant to Sections 36(c) an 36(d) of the Arms Export Control Act, I am transmitting, herewith, certification of a proposed license for the manufacture of Significant Military Equipment abroad and export of defense articles, including technical data, and defense services in the amount of $100,000,000 or more.

The transaction contained in the attached certification involves the manufacture and export of defense articles, including technical data, and defense services to Italy and Turkey. The agreement includes the manufacture of the F-35 Lightning II's Center Fuselage and related assemblies, subassemblies and components including composite components associated with all variants of the F-35 aircraft. The amendment also authorizes the retransfer of hardware to the F-35 Assembly checkout facility in Italy.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-048.

July 24, 2013

Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, to include technical data, and defense services to France, Kazakhstan, Luxembourg, Russia, and Sweden to support the Proton launch of the Intelsat DLA-2 Commercial Communications Satellite from the Baikonur Cosmodrome in Kazakhstan.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-097.

July 24, 2013

Honorable John A. Boehner, Speaker of the House of Representatives.

Dear Mr. Speaker: Pursuant to Sections 36(c) and 36(d) of the Arms Export Control Act, I am transmitting, herewith, certification of a proposed amendment to a manufacturing license agreement for significant military equipment abroad and the export of defense articles, including technical data, and defense services in the amount of $100,000,000 or more.

The transaction contained in the attached certification involves the export of defense services, technical data, and defense articles for the manufacture in Japan of the CH-47J Chinook Helicopter for end-use by the Japan Defense Agency.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-093.

August 29, 2013

Honorable John A. Boehner, Speaker of the House of Representatives.

Dear Mr. Speaker: Pursuant to Section 36(c) of the Arms Export Control Act, I am transmitting, herewith, certification of a proposed amendment to a technical assistance agreement for the export of defense articles, including technical data, and defense services in the amount of $50,000,000 or more.

The transaction contained in the attached certification involves the export of defense articles, including technical data, and defense services to Algeria to support the installation, training, operation, test, repair, and calibration of the Algerian Maritime Surveillance System and Air Defense Automated Radar Coverage System.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-092.

August 29, 2013

Honorable John A. Boehner, Speaker of the House of Representatives.

Dear Mr. Speaker: Pursuant to Section 36(c) of the Arms Export Control Act, I am transmitting, herewith, certification of a proposed amendment to a technical assistance agreement for the export of defense articles, including technical data, and defense services in the amount of 100,000,000 or more.

The transaction contained in the attached certification involves the export of defense articles, including technical data, and defense services to Belgium, Denmark, France, Germany, Ireland, and Portugal to support the integration, installation, technical reviews, studies, surveys, and testing related to the improved Air Defense Ground Environment (ADGE) System for end-use by NATO.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-107.

August 12, 2013

Honorable John A. Boehner, Speaker of the House of Representatives.

Dear Mr. Speaker: Pursuant to Sections 36(c) an 36(d) of the Arms Export Control Act, I am transmitting, herewith, certification of a proposed license for the manufacture of Significant Military Equipment abroad and export of defense articles, including technical data, and defense services in the amount of $50,000,000 or more.

The transaction contained in the attached certification involves the manufacture and export of defense articles, including technical data, and defense services to Canada, the Czech Republic, Germany, India, Israel, Mexico, Poland, Serbia, Turkey, and the United Kingdom. The agreement includes the assembly, design, development, maintenance, manufacture, overhaul, repair, testing and troubleshooting of aircraft Auxiliary Power Units and their subassemblies, parts and components for end-use by 52 countries.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-067.

August 16, 2013

Honorable John A. Boehner, Speaker of the House of Representatives.

Dear Mr. Speaker: Pursuant to Sections 36(c) of the Arms Export Control Act, I am transmitting, herewith, certification of a proposed export of defense articles, including technical data, and defense services in the amount of $50,000,000 or more.

The transaction contained in the attached certification authorizes the export of defense articles, including technical data, and defense services to provide operational support, engineering training, and overhaul of T700-GE-700/701/701A/701C/701D/401/401C engines for various end users.

The United States Government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-096.

August 8, 2013

Honorable John A. Boehner, Speaker of the House of Representatives.

Dear Mr. Speaker: Pursuant to Section 36(c) of the Arms Export Control Act, I am transmitting, herewith, certification of a proposed amendment to an existing manufacturing license agreement for the export of defense articles, including technical data, and defense services in the amount of $100,000,000 or more.

The transaction contained in the attached certification authorizes the export of defense articles, including technical data, defense services, and manufacture know-how for the design, manufacture, and integration of the Weapons Bay Door Drive System for all variants of the F-35 Lightning II aircraft.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-111.

August 8, 2013

Honorable John A. Boehner, Speaker of the House of Representatives.

Dear Mr. Speaker: Pursuant to Section 36(c) of the Arms Export Control Act, I am transmitting, herewith, certification of a proposed license for the export of defense articles in the amount of $1,000,000 or more.

The transaction contained in the attached certification involves the export of bolt action rifles to France for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-113.

August 23, 2013

Honorable John A. Boehner, Speaker of the House of Representatives.

Dear Mr. Speaker: Pursuant to Sections 36(c) of the Arms Export Control Act, I am transmitting, herewith, certification of a proposed amendment to a technical assistance agreement for the manufacture of significant military equipment abroad and the export of defense articles, including technical data, and defense services in the amount of $100,000,000 or more.

The transaction contained in the attached certification authorizes the export of defense articles, including technical data, and defense services to provide organizational, intermediate, and depot level maintenance, repair, and overhaul for the Republic of Korea, Ministry of National Defense's F100 aircraft engines.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-115.

August 16, 2013

Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, to include technical data, and defense services to France, Kazakhstan, Russia, and Sweden to support the Proton launch of the EchoStar TerreStar-2 Commercial Communications Satellite from the Baikonur Cosmodrome in Kazakhstan.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-117.

August 8, 2013.

Honorable John A. Boehner, Speaker of the House of Representatives.

Dear Mr. Speaker: Pursuant to Section 36(d) of the Arms Export Control Act, I am transmitting, herewith, certification of a proposed license for the export of defense articles, including technical data, and defense services for the manufacture of significant military equipment abroad.

The transaction contained in the attached certification involves the export of defense articles, including technical data, and defense services to Japan to support the manufacture, integration, installation, operation, training, testing, maintenance, and repair of the dynamically tuned gyroscopes.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-118.

August 8, 2013.

Honorable John A. Boehner, Speaker of the House of Representatives.

Dear Mr. Speaker: Pursuant to Section 36(c) and (d) of the Arms Export Control Act, I am transmitting, herewith, certification of a proposed license for the manufacture of significant military equipment abroad and the export of defense articles, including technical data, and defense services in the amount of $100,000,000 or more.

The transaction contained in the attached certification involves the export of defense articles, including technical data, and defense services to Israel to support the development and manufacture of component parts of pistols and rifles.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-120.

September 16, 2013.

Honorable John A. Boehner, Speaker of the House of Representatives.

Dear Mr. Speaker: Pursuant to Sections 36(c) of the Arms Export Control Act, I am transmitting, herewith, certification of a proposed export of defense articles, including technical data, and defense services to include significant military equipment in the amount of $50,000,000 or more.

The transaction contained in the attached certification amends an existing agreement that authorizes the export of defense articles, including technical data, and defense services to the U.S. Embassy Country Team in Pakistan to support the Government of Pakistan's Ministry of Interior Air Wing in the surveillance and interdiction of terrorists, narcotics, arms, and other unlawful border activities along the Pakistan-Afghanistan boarder.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-079.

September 20, 2013.

Honorable John A. Boehner, Speaker of the House of Representatives.

Dear Mr. Speaker: Pursuant to Section 36(c) of the Arms Export Control Act, I am transmitting, herewith, certification of a proposed license for the export of firearm parts and components abroad controlled under Category I of the United States Munitions List in amount of $1,000,000 or more.

The transaction contained in the attached certification involves the export of pistols and revolvers to Turkey for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-121.

September 16, 2013.

Honorable John A. Boehner, Speaker of the House of Representatives.

Dear Mr. Speaker: Pursuant to Section 36(c) of the Arms Export Control Act, I am transmitting, herewith, certification of a proposed amendment to a manufacturing agreement for the export of defense articles, including technical data, and defense services in the amount of $100,000,000 or more.

The transaction contained in the attached certification authorizes the export of defense articles, including technical data, and defense services used in support of the manufacture, assembly and installation of the Environmental Control System (ECS) used on the EP-3, P-3C, and UP-3 series aircraft.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-122.

September 20, 2013

Honorable John A. Boehner, Speaker of the House of Representatives.

Dear Mr. Speaker: Pursuant to Section 36(c) of the Arms Export Control Act, I am transmitting, herewith, certification of a proposed amendment to a manufacturing license agreement for the export of defense articles, including technical data, and defense services in the amount of $50,000,000 or more.

The transaction contained in the attached certification involves the export of defense articles, including technical data, and defense services to Canada, Philippines, and the Republic of Korea to support the manufacture of printed wiring boards.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-125.

September 24, 2013.

Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, including technical data, and defense services to Pakistan to support the integration, installation, testing, verification, and maintenance of AN/APG-68(V)9 Radar in the F-16 aircraft.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-098.

September 23, 2013.

Honorable John A. Boehner, Speaker of the House of Representatives.

Dear Mr. Speaker: Pursuant to Section 36(c) of the Arms Export Control Act, I am transmitting, herewith, certification of a proposed export of defense articles, including technical data, and defense services in the amount of $100,000,000 or more.

The transaction contained in the attached certification authorizes the export of defense articles, including technical data, and defense services to support the integration of the F135 Propulsion System in the F-35 aircraft during final assembly and check-out activities for ultimate end-use by the Government of Italy.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons,

Acting Assistant Secretary, Legislative Affairs.

Enclosure: Transmittal No. DDTC 13-123.

Dated: October 4, 2013.
Terry L. Davis,
Acting Director, Office of Defense Trade Controls Licensing, Department of State.

[FR Doc. 2013-27003 Filed 11-8-13; 8:45 am]

BILLING CODE 4710-25-P